GENERAL SERVICES ADMINISTRATION

[Notice-P-2024-03; Docket No. 2024-0002; Sequence No. 59]

Notice of Availability (NOA) for the Record of Decision (ROD) on the Final Environmental Impact Statement (EIS) and Floodplain Assessment and Statement of Findings for the Kenneth G. Ward (Lynden) and Sumas Land Ports of Entry (LPOE) Modernization and Expansion Projects in Lynden and Sumas, Washington

AGENCY: Public Buildings Service (PBS), United States (U.S.) General Services Administration (GSA).

ACTION: NOA; public notice of ROD for the Final EIS and Floodplain Assessment and Statement of Findings.

SUMMARY: GSA issued a ROD for the Modernization and Expansion of the Lynden and Sumas LPOEs in Lynden and Sumas, Washington on December 27, 2024 (Identification Number: EISX-023-00-010-1728643103). The ROD was prepared in accordance with the National Environmental Policy Act (NEPA) of 1969 and the GSA PBS NEPA Desk Guide.

DATES: Applicable: Friday, December 27, 2024.

ADDRESSES: The ROD may be found online at the GSA project websites: www.gsa.gov/lynden and www.gsa.gov/sumas.

FOR FURTHER INFORMATION CONTACT: Patrick Manning, Capital Project Manager, GSA at lyndenlpoe@gsa.gov or sumaslpoe@gsa.gov, or call 202-501-4755.

SUPPLEMENTARY INFORMATION:

Background

GSA is planning to modernize and expand the Lynden and Sumas LPOEs. The existing 4.8-acre Lynden LPOE serves as the port of entry for people and vehicles connecting Lynden, Washington to Aldergrove, British Columbia, Canada. The Lynden LPOE currently operates 16 hours per day, 7 days per week and processes privately owned vehicles (POVs), buses, pedestrians, and permitted commercial traffic. The existing 4.0-acre Sumas LPOE serves as the port of entry for people and vehicles connecting Sumas, Washington, to Abbotsford, British Columbia, Canada. The Sumas LPOE operates 24 hours per day, 7 days per week and processes POVs, buses, pedestrians, and commercial traffic.

The purpose of these projects is for GSA to support the U.S. Department of Homeland Security's Customs and Border Protection (CBP) mission through modernizing and expanding the Lynden and Sumas LPOEs. Accomplishing this purpose would increase the functionality, capacity, operational efficiency, effectiveness, security, sustainability, and safety of the Lynden and Sumas LPOEs. The projects are generally needed to update the current facilities at the Lynden and Sumas LPOEs, which no longer function adequately and cannot meet CBP current operational needs or Program of Requirements.

The existing Lynden and Sumas LPOEs have not undergone major improvements since their initial construction in the late 1980s and do not have sufficient space for modernization and expansion. Both facilities also have configuration and space issues that cause congestion, delays in processing times, and safety and security issues for inspection personnel. Additionally, these facilities do not have the ability to incorporate new technologies as they become available. The projects at the Lynden and Sumas LPOEs are analyzed jointly in this Final EIS due to their proximity (approximately 10 miles) to one another. Operational changes at the Lynden and Sumas LPOEs could impact each other, especially during construction.

GSA prepared a Final EIS to assess the potential impacts of these expansion and modernization projects. On August 8, 2023, GSA published a Notice of Intent for the EIS and underwent a 30-day scoping period (88 FR 53486). The Draft EIS, which considered two action alternatives and a No Action Alternative for the Lynden LPOE and three action alternatives and a No Action Alternative for the Sumas LPOE, was made available for a 45-day public comment period from August 12, 2024 to September 26, 2024. The Final EIS was issued on November 15, 2024 (89 FR 90292); starting a 30-day waiting period that ended on December 16, 2024.

One comment from U.S. Environmental Protection Agency (USEPA), Region 10 was received during the Final EIS 30-day waiting period from November 15, 2024 to December 16, 2024. The USEPA indicated that GSA addressed all the USEPA comments on the Draft EIS related to information on measures to protect water resources, improve air quality, and sustainable building design to adapt to a changing climate. No other comments were received during the Final EIS 30-day waiting period.

GSA's Preferred Alternatives and Environmentally Preferable Alternatives

GSA considered the findings in the Final EIS, stakeholder input, public comments, and tenant needs at the LPOEs to determine the preferred alternatives, including the environmentally preferable alternatives, which are discussed below.

Lynden LPOE

GSA's preferred alternative for the Lynden LPOE is to implement Lynden LPOE Alternative 3 (North-South Oriented LPOE Expansion) as described in the Final EIS. GSA has selected this alternative because it would match the orientation of the existing LPOE and facilitate more efficient traffic flow. GSA has also identified Lynden LPOE Alternative 3 as the environmentally preferable alternative.

Lynden LPOE Alternative 3 (North-South Oriented LPOE Expansion) would involve potential acquisition of primarily agricultural land to the west of the LPOE, site preparation, and construction to modernize and expand the LPOE. The maximum proposed limits of disturbance for Lynden LPOE Alternative 3 would be approximately 10.3 acres.

Sumas LPOE

GSA's preferred alternative for the Sumas LPOE is to implement Sumas LPOE Alternative 4 (Multi-Story Construction LPOE Expansion) as described in the Final EIS. GSA has selected this alternative because the operational space within the Main Building would be consolidated, and the building would use a smaller footprint within the LPOE allowing more space for other LPOE functions and increasing LPOE operational efficiency. This alternative would also add a pedestrian bridge, further increasing employee safety. GSA has also identified Sumas LPOE Alternative 4 as the environmentally preferable alternative.

Sumas LPOE Alternative 4 (Multi-Story Construction LPOE Expansion) would involve potential acquisition of land south and east of the LPOE, site preparation, and construction to modernize and expand the LPOE. The maximum proposed limits of disturbance for Sumas LPOE Alternative 4 would be approximately 12.9 acres.

Lynden LPOE and Sumas LPOE Construction Sequencing Options

The Final EIS evaluated two construction sequencing options, which could be implemented under the preferred action alternatives selected. Construction sequencing options are still being evaluated and will be determined during the design-build phase.

Under the Concurrent Construction Option, both ports would remain open during construction. Pedestrian and POV access would be maintained through the ports but limits on the number of open processing lanes and shifting of POVs to commercial owned vehicle (COV) lanes for limited times may be necessary. COVs may be detoured at times to other ports to permit adequate space for continued POV processing. Under the Sequential Construction Option, all traffic, pedestrians, POVs, and COVs would be detoured from the Lynden LPOE during the majority of its construction. Once the Lynden LPOE was reopened, construction that impacts traffic would begin on the Sumas LPOE. The Sumas LPOE would remain open to pedestrians and POVs during construction to the greatest extent possible. COVs would be detoured from the Sumas LPOE to other LPOEs during portions of the construction period.

Anamarie Crawley,
Director, R10 Facilities Management Division, Northwest/Arctic Region 10, U.S. General Services Administration.

[FR Doc. 2024-30597 Filed 12-31-24; 8:45 am]

BILLING CODE 6820-DL-P